DEPARTMENT OF HOMELAND SECURITY

Coast Guard

33 CFR Part 117

[Docket No. USCG-2013-0850]

Drawbridge Operation Regulation; Lake Pontchartrain, Near Slidell, LA

AGENCY: Coast Guard, DHS.

ACTION: Notice of deviation from drawbridge regulation.

SUMMARY: The Coast Guard has issued a temporary deviation from the operating schedule that governs the Norfolk Southern Railroad Bridge across Lake Pontchartrain, mile 4.80, near Slidell, St. Tammany Parish, Louisiana. The deviation is necessary to replace worn joints on the north draw of the bridge. This deviation allows the bridge to remain closed to vessel traffic for six hours on three consecutive days.

DATES: This deviation is effective from 8 a.m. through 2 p.m. on October 8, 9 and 10, 2013.

ADDRESSES: The docket for this deviation, [USCG-2013-0850] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Jim Wetherington, Coast Guard; telephone 504-671-2128, email james.r.wetherington@uscg.mil. If you have questions on viewing the docket, call Barbara Hairston, Program Manager, Docket Operations, telephone 202-366-9826.

SUPPLEMENTARY INFORMATION: Norfolk Southern Corporation, the bridge owner, requested three, 6-hour closures for the Norfolk Southern RR Bridge over Lake Pontchartrain, Mile 4.80, near Slidell, St. Tammany Parish, LA. The bridge has a horizontal clearance of 105 feet and a vertical clearance of two feet, above Mean Sea Level, in the closed-to-navigation position and an unlimited vertical clearance in the open-to-navigation position.

The bridge opens on signal as per 33 CFR 117.5. The deviation period will be October 8, 9 and 10, 2013 from 8 a.m. through 2 p.m. each of those days. These closure periods will allow the replacement of the bridge joints as required in a normal maintenance cycle.

This waterway is used by both commercial and recreational vessel traffic. No previous coordination was made with the waterway users though the closure times were chosen to minimize the impact to these users.

Vessels able to pass through the bridge in the closed positions may do so at anytime. The bridge will not be able to open for emergencies and there is no immediate alternate route for vessels to pass. The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: September 16, 2013.
David M. Frank,
Bridge Administrator.

[FR Doc. 2013-23525 Filed 9-26-13; 8:45 am]

BILLING CODE 9110-04-P